DEPARTMENT OF VETERANS AFFAIRS

[OMB Control No. 2900-0074]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden and includes the actual data collection instrument.

DATES: Comments must be submitted on or before October 14, 2003.

FOR FURTHER INFORMATION OR A COPY OF THE SUBMISSION CONTACT: Denise McLamb, Records Management Service (005E3), Department of Veterans Affairs, 810 Vermont Avenue, NW., Washington, DC 20420, (202) 273-8030, Fax (202) 273-5981 or e-mail: denise.mclamb@mail.va.gov. Please refer to “OMB Control No. 2900-0074.”

Send comments and recommendations concerning any aspect of the information collection to VA's OMB Desk Officer, OMB Human Resources and Housing Branch, New Executive Office Building, Room 10235, Washington, DC 20503 (202) 395-7316. Please refer to “OMB Control No. 2900-0074” in any correspondence.

SUPPLEMENTARY INFORMATION: Title: Request for Change of Program or Place of Training for Veterans, Servicepersons, and Members of the Selected Reserve, VA Form 22-1995.

OMB Control Number: 2900-0074.

Type of Review: Extension of a currently approved collection.

Abstract: VA pays educational benefits to eligible veterans and persons on active duty, and to persons in the Selected Reserve. Each veteran, person on active duty, or person in the Selected Reserve must be pursuing an approved program of training to be eligible for benefits. The eligible student must complete VA Form 22-1995 to identify and request approval for a supplementary educational objective or place of training. VA cannot pay benefits if the veteran, person on active duty, or person in the Selected Reserve changes his or her educational objective or place of training without VA's approval. The information collected is used to determine continued eligibility for educational benefits, and to monitor the number of times a veteran, person on active duty, or person in the Selected Reserve has changed his or her educational objectives. An agency may not conduct or sponsor, and a person is not required to respond to a collection of information unless it displays a currently valid OMB control number. The Federal Register Notice with a 60-day comment period soliciting comments on this collection of information was published on April 16, 2003, at pages 18726-18727.

Affected Public: Individuals or households.

Estimated Annual Burden: 16,000 hours.

Estimated Average Burden per Respondent: 12 minutes.

Frequency of Response: On occasion.

Estimated Annual Responses: 80,000.

Dated: August 27, 2003.
By direction of the Secretary:
Denise McLamb,
Program Analyst, Records Management Service.

[FR Doc. 03-23097 Filed 9-10-03; 8:45 am]

BILLING CODE 8320-01-P